DEPARTMENT OF LABOR

Employment and Training Administration

[TA-W-40,584 and TA-W-40,584A]

Rockwell Collins, A/K/A New Rockwell, Pomona, California and Rockwell Collins, A/K/A New Rockwell, Irvine California; Amended Certification Regarding Eligibility To Apply for Worker Adjustment Assistance

In accordance with Section 223 of the Trade Act of 1974 (19 U.S.C. 2273) the Department of Labor issued a Certification of Eligibility to Apply for Worker Adjustment Assistance on March 8, 2002, applicable to workers of Rockwell Collins plants located in Pomona and Irvine, California. The notice was published in the Federal Register on March 29, 2002 (67 FR 15226).

At the request of the State agency, the Department reviewed the certification for workers of the subject firm. Information provided by the State show that the workers wages are reported to the Unemployment Insurance tax account for New Rockwell.

The intent of the certification is to provide coverage to all workers of the subject firm impacted by increased imports of in-flight entertainment systems. Therefore, the Department is amending the certification to include workers of the firm whose wages are paid by New Rockwell.

The amended notice applicable to TA-W-40,584 and TA-W-40,584A is hereby issued as follows:

All workers of Rockwell Collins, also known as New Rockwell, Pomona, California (TA-W-40,584) and Irvine, California (TA-W-40,584A), who became totally or partially separated from employment on or after January 3, 2001 through March 8, 2004, are eligible to apply for adjustment assistance under Section 223 of the Trade Act of 1974. Workers of Rockwell Collins, also known as New Rockwell, Pomona, California and Irvine, California, engaged in the production of the 8.6″ Boeing retract for PAVES in-flight entertainment system are covered under TA-W-39,179 and TA-W-39,179A, respectively, through July 16, 2003; and beginning July 17, 2003 through March 8, 2004, are eligible under this certification to apply for adjustment assistance under Section 223 of the Trade Act of 1974.

Signed in Washington, DC this 6th day of June, 2002.
Linda G. Poole,
Certifying Officer, Division of Trade Adjustment Assistance.

[FR Doc. 02-15750 Filed 6-20-02; 8:45 am]

BILLING CODE 4510-30-P